DEPARTMENT OF HOMELAND SECURITY

Coast Guard

33 CFR Part 165

[Docket No. USCG-2014-0589]

RIN 1625-AA00

Eighth Coast Guard District Annual Safety Zones; Pittsburgh Steeler/Steelers Fireworks; Allegheny River Mile 0.0 to 0.2 and Ohio River 0.0 to 0.3; Pittsburgh, PA

AGENCY: Coast Guard, DHS.

ACTION: Notice of enforcement of regulation.

SUMMARY: The Coast Guard will enforce a safety zone for the Pittsburgh Steeler/Steelers Fireworks on the Allegheny River from mile 0.0 to 0.2 and Ohio River from mile 0.0 to 0.3. This zone will be in effect on October 20th, November 2nd, and December 28th, 2014 from 7:30 p.m. until 8:50 p.m. This zone is needed to protect vessels transiting the area and event spectators from the hazards associated with the Pittsburgh Steeler/Steelers Barge-based Fireworks. During the enforcement period, entry into, transiting, or anchoring in the safety zone is prohibited to all vessels not registered with the sponsor as participants or official patrol vessels, unless specifically authorized by the Captain of the Port (COTP) Pittsburgh or a designated representative.

DATES: The regulations in 33 CFR 165.801 will be enforced with actual notice on October 20, November 2, and December 28, 2014 from 7:30 p.m. until 8:50 p.m.

FOR FURTHER INFORMATION CONTACT: If you have questions on this notice of enforcement, call or email Ariana Mohnke, Marine Safety Unit Pittsburgh, U.S. Coast Guard, at telephone (412) 644-5808, email Ariana.L.Mohnke@uscg.mil.

SUPPLEMENTARY INFORMATION: The Coast Guard will enforce the Safety Zone for the annual Pittsburgh Steeler/Steelers Fireworks listed in 33 CFR 165.801 Table 1, Entry No. 54; Sector Ohio Valley on October 20th, November 2nd, and December 28th, 2014 from 7:30 p.m. until 8:50 p.m.

Under the provisions of 33 CFR 165.801, entry into the safety zone listed in Table 1, Entry No. 54; Sector Ohio Valley, is prohibited unless authorized by the COTP or a designated representative. Persons or vessels desiring to enter into or passage through the safety zone must request permission from the COTP Pittsburgh or a designated representative. If permission is granted, all persons and vessels shall comply with the instructions of the COTP Pittsburgh or designated representative.

This notice is issued under authority of 5 U.S.C. 552(a); 33 U.S.C. 1231; 46 U.S.C. Chapter 701, 3306, 3703; 50 U.S.C. 191, 195; 33 CFR 1.05-1, 6.04-1, 6.04-6, and 160.5; Public Law 107-295, 116 Stat. 2064; Department of Homeland Security Delegation No. 0170.1. In addition to this notice in the Federal Register, the Coast Guard will provide the maritime community with advance notification of this enforcement period via Local Notice to Mariners and updates via Marine Information Broadcasts.

If the COTP Pittsburgh or designated representative determines that the safety zone need not be enforced for the full duration stated in this notice of enforcement, he or she may use a Broadcast Notice to Mariners to grant general permission to enter the regulated area.

Dated: September 4, 2014.
L.N. Weaver,
Commander, U.S. Coast Guard, Captain of the Port, Pittsburgh.

[FR Doc. 2014-24429 Filed 10-10-14; 8:45 am]

BILLING CODE 9110-04-P